Proclamation 9412 of March 31, 2016

National Child Abuse Prevention Month, 2016

By the President of the United States of America

A Proclamation

All children deserve to grow up in a caring and loving environment, yet across America, hundreds of thousands of children are neglected or abused each year, often causing lasting consequences. Although effectively intervening in the lives of these children and their families is an important responsibility at all levels of government, preventing abuse and neglect is a shared obligation. During National Child Abuse Prevention Month, we recommit to giving every child a chance to succeed and to ensuring that every child grows up in a safe, stable, and nurturing environment that is free from abuse and neglect.

Preventing child abuse is an effort that we must undertake as one American family, and in our schools, neighborhoods, and communities, we must look after every child as if they are our own. Between four and eight children die every day from abuse or neglect, but together we can prevent these tragedies from occurring. Children who are being abused or neglected may display constant alertness, sudden changes in behavior and school performance, or untreated physical or medical issues. Child abuse may take many forms, including neglect and physical, sexual, or emotional abuse. More information on preventing child abuse can be found at www.ChildWelfare.gov/Preventing.

All families can benefit from strong support systems and resources in the face of these challenges, and as parents, friends, neighbors, and fellow human beings, keeping our kids safe is among our highest priorities. My Administration is dedicated to fostering healthy and supportive conditions that enable our children to develop and thrive and that ensure parents and caretakers have the resources they need to properly care for their children. We are supporting efforts that lift up vulnerable families, improve the coordination of programs and services within communities, and promote meaningful and measurable changes in the lives of children across America to improve their social and emotional well-being. The effects of child abuse and neglect can negatively impact a child throughout their life. Together, we must address this issue so that our children and our children's children never know the pain caused by child abuse.

Our Nation's enduring commitment to prevent child abuse and neglect demands that individuals and communities partner together to provide safe and nurturing environments for all of America's daughters and sons. We must all join in the work of uplifting and safeguarding our youngest individuals and ensuring they are limited by nothing but the size of their dreams and the range of their aspirations. This month, let us aim to eradicate child abuse from our society, and let us secure a future for our children that is bright and full of hope, opportunity, and security.

NOW, THEREFORE, I, BARACK OBAMA, President of the United States of America, by virtue of the authority vested in me by the Constitution and the laws of the United States, do hereby proclaim April 2016 as National Child Abuse Prevention Month. I call upon all Americans to observe this month with programs and activities that help prevent child abuse and provide for children's physical, emotional, and developmental needs.

IN WITNESS WHEREOF, I have hereunto set my hand this thirty-first day of March, in the year of our Lord two thousand sixteen, and of the Independence of the United States of America the two hundred and fortieth.

[FR Doc. 2016-07957

Filed 4-4-16; 11:15 am]

Billing code 3295-F6-P